DEPARTMENT OF HOUSING AND URBAN DEVELOPMENT

[Docket No. FR-4901-N-10]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, ATTN: Teresa Sheinberg, 2100 Second St., SW., Rm 6109, Washington, DC 20314-1000; (202) 267-6142; GSA: Mr. Brian K. Polly, Assistant Commissioner, General Services Administration, Office of Property Disposal, 18th and F Streets, NW., Washington, DC 20405; (202) 501-0052; INTERIOR: Ms. Linda Tribby, Acquisition & Property Management, Department of the Interior, 1849 C Street, NW., MS5512, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: February 26, 2004.
John D. Garrity,
Director, Office of Special Needs Assistance Programs.

Title V, Federal Surplus Property Program Federal Register Report for 3/5/04

Suitable/Available Properties

Buildings (by State)

California

SSA Building

1230 12th Street

Modesto Co: CA 95354-

Landholding Agency: GSA

Property Number: 54200330003

Status: Surplus

Comment: 11,957 sq. ft., needs repair, presence of asbestos/lead paint, most recent use—office

GSA Number: 9-G-CA-1610

Colorado

Strategic Range Tng Complex

Industrial Park

LaJunta Co: Otero CO 81050-9501

Landholding Agency: GSA

Property Number: 54200330013

Status: Surplus

Comment: main bldg. with 6 storage bldgs.

GSA Number: 7-D-CO-0648

Florida

Lexington Terrace Housing

Old Corry Field Road

Pensacola Co: Escambia FL 32508-

Landholding Agency: GSA

Property Number: 54200410014

Status: Surplus

Comment: 44 duplexes, units 400 to 800 sq. ft., small ofc. bldg., laundromat, presence of asbestos/lead paint, potential electric power

GSA Number: 4-N-FL-07352A

Hawaii

Bldg. 442, Naval Station

Ford Island

Pearl Harbor Co: Honolulu HI 96860-

Landholding Agency: Navy

Property Number: 77199630088

Status: Excess

Comment: 192 sq. ft., most recent use—storage, off-site use only

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Illinois

Soc. Sec. Admin. Ofc.

525 18th Street

Rock Island Co: IL

Landholding Agency: GSA

Property Number: 54200310017

Status: Surplus

Comment: 5800 sq. ft., most recent use—office

GSA Number: 1-G-IL-730

Indiana

Soc. Sec. Admin. Ofc.

327 West Marion

Elkhart Co: IN -

Landholding Agency: GSA

Property Number: 54200310016

Status: Surplus

Comment: 6600 sq. ft., most recent use—office

GSA Number: 1-G-IN-596

Paulsen U.S. Army Reserve Ctr

800 East Crystal

N. Judson Co: Starke IN 46366-

Landholding Agency: GSA

Property Number: 54200330001

Status: Surplus

Comment: 13,114 sq. ft., presence of asbestos/lead paint, most recent use—office/training/vehicle maint. and repair

GSA Number: 1-D-IN-597

Iowa

Fed Bldg/Courthouse

350 W 6th Street

Dubuque Co: IA 52001-

Landholding Agency: GSA

Property Number: 54200330014

Status: Excess

Comment: 45,729 sq. ft., needs repair, portion occupied, most recent use—office, historic covenants

GSA Number: 7-G-IA-0495-1

23 Buildings

Former Naval Housing

Waverly Co: Bremer IA 50677-

Landholding Agency: GSA

Property Number: 54200340006

Status: Surplus

Comment: 2 to 3 bedroom homes, 864 to 1760 sq. ft., presence of asbestos/lead paint

GSA Number: 7-I-IA-0463-5

Louisiana

SSA Baton Rouge Dist. Ofc.

350 Donmoor Avenue

Baton Rouge Co: LA 70806-

Landholding Agency: GSA

Property Number: 54200330005

Status: Surplus

Comment: 9456 sq. ft., most recent use—office

GSA Number: 7-G-LA-0567

Maryland

Lee Court Apartments

Nuttal Drive

Edgewood Co: Harford MD 21040-

Landholding Agency: GSA

Property Number: 54200410008

Status: Excess

Comment: 25 bldgs w/71 apartment units, needs rehab, presence of asbestos/lead paint, water and sewer systems require improvements

GSA Number: 4-D-MD-0616

Michigan

Detroit Job Corp Center

10401 E. Jefferson

1265 St. Clair

Detroit Co: Wayne MI

Landholding Agency: GSA

Property Number: 54200230012

Status: Surplus

Comment: Parcel One = 80,590 sq. ft.bldg., needs repair, presence of asbestos; Parcel Two = 5140 sq. ft. bldg.

GSA Number: 2-L-MI-757

Nevada

Young Fed Bldg/Courthouse

300 Booth Street

Reno Co: NV 89502-

Landholding Agency: GSA

Property Number: 54200330006

Status: Surplus

Comment: 133,439 sq. ft. (85,637 sq. ft. available), presence of asbestos/lead paint

GSA Number: 9-G-NV-529

Texas

Border Patrol Station

Hwy 285

Falfurrias Co: Brooks TX 78355-3526

Landholding Agency: GSA

Property Number: 54200410013

Status: Surplus

Comment: 2426 sq. ft., possible asbestos/lead paint, subject to existing easements

GSA Number: 7-J-TX-0620A

Washington

Bldg. 88

1917 Marsh Road

Yakima Co: WA 98901-

Landholding Agency: Interior

Property Number: 61200340007

Status: Unutilized

Comment: 1032 sq. ft., presence of asbestos/lead paint, most recent use—office, off-site use only

Land (by State)

Arizona

Florence Gardens Subd.

60 miles SE of Phoenix

Pinal Co: AZ 85232-

Landholding Agency: GSA

Property Number: 54200410007

Status: Surplus

Comment: 58 vacant parcels totaling 8.12 acres, controlled by covenants/restrictions

GSA Number: 9-I-AZ-0829

Michigan

IOM Site

Chesterfield Road

Chesterfield Co: Macomb MI -

Landholding Agency: GSA

Property Number: 54200340008

Status: Excess

Comment: approx. 17.4 acres w/concrete block bldg. in poor condition, most recent use—radio antenna field, narrow right-of-way

GSA Number: 1-D-MI-0603F

New Mexico

H Marker Facility

Roswell Co: Chaves NM 88201-

Landholding Agency: GSA

Property Number: 54200330011

Status: Surplus

Comment: 12.398 acres, subject to existing easements

GSA Number: 7-U-NM-0587

Utah

0.5 acres

2968 W. Alice Way

West Valley Co: Salt Lake UT 84119-

Landholding Agency: GSA

Property Number: 54200340004

Status: Excess

Comment: paved

GSA Number: 7-U-UT-0515

Washington

15.1 acres

Road I8NE & Road 36NE

Coulee City Co: Grant WA 99115-

Landholding Agency: Interior

Property Number: 61200310002

Status: Excess

Comment: subject to existing easements/substation site

Suitable/Unavailable Properties

Buildings (by State)

California

Merced Federal Bldg.

415 W. 18th St.

Merced Co: CA 95340-

Landholding Agency: GSA

Property Number: 54200220012

Status: Surplus

Comment: 15,492 sq. ft., presence of asbestos/lead paint, Historic Preservation Covenant will be included in deed, relocation issue

GSA Number: 9-G-CA-1567

Fed. Bldg./Post Office

1125 I Street

Modesto Co: CA 95354-

Landholding Agency: GSA

Property Number: 54200310010

Status: Excess

Comment: 23,770 sq .ft., presence of asbestos/lead paint, controlled access, Federal tenants occupy portion of bldg., National Register of Historic Places

GSA Number: 9-G-CA-1576

Bell Federal Service Center 5600 Rickenbacker Road

Bell Co: Los Angeles CA 90201-

Landholding Agency: GSA

Property Number: 54200320009

Status: Excess

Comment:

Correction/Republished: 7 bldgs., various sq. ft., need repair, portion occupied, restricted access, presence of asbestos/lead paint/PCBs, most recent use—warehouse/office

GSA Number: 9-G-CA-06984

Calexico Border Patrol Station

813 Andrade Ave.

Calexico Co: CA 92231-

Landholding Agency: GSA

Property Number: 54200320012

Status: Excess

Comment: 5600 sq. ft. main bldg., and 6845 sq. ft. parking/garage structure, need repairs

GSA Number: 9-J-CA-1539

Illinois

LaSalle Comm. Tower Site

1600 NE 8th St.

Richland Co: LaSalle IL 61370-

Landholding Agency: GSA

Property Number: 54200020019

Status: Excess

Comment: 120 sq. ft. cinder block bldg. and a 300′ tower

GSA Number: 1-D-IL-724

Indiana

Federal Building

610 Connecticut Street

Gary Co: IN 46402-

Landholding Agency: GSA

Property Number: 54200310011

Status: Excess

Comment: 30,478 sq. ft., needs repair, presence of asbestos, most recent use—office

GSA Number: 1-G-IN-591

Maryland

29 Bldgs.

Walter Reed Army Medical Center

Forest Glen Annex, Linden Lane

Silver Spring Co: Montgomery MD 20910-1246

Location: 24 bldgs. are in poor condition, presence of asbestos/lead paint, most recent use—hospital annex, lab, office

Landholding Agency: GSA

Property Number: 54200130012

Status: Excess

Comment: Historic Preservation Covenants will impact reuse, property will not be parcelized for disposal, high cost associated w/maintenance, estimated cost to renovate $17 million

GSA Number: 11-D-MD-558-B

Minnesota

GAP Filler Radar Site

St. Paul Co: Rice MN 55101-

Landholding Agency: GSA

Property Number: 54199910009

Status: Excess

Comment: 1266 sq. ft., concrete block, presence of asbestos/lead paint, most recent use—storage, zoning requirements, preparations for a Phase I study underway, possible underground storage tank

GSA Number: 1-GR(1)-MN-475

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Mississippi

Federal Building

500 West Main Street

Tupelo Co: Lee MS 38801-

Landholding Agency: GSA

Property Number: 54200340002

Status: Surplus

Comment: 28,867 sq. ft., presence of asbestos/possible lead paint

GSA Number: 4-G-MS-0561

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

New York

Social Sec. Admin. Bldg.

517 N. Barry St.

Olean Co: NY 10278-0004

Landholding Agency: GSA

Property Number: 54200230009

Status: Excess

Comment: 9174 sq. ft., poor condition, most recent use—office

GSA Number: 1-G-NY-0895

Army Reserve Center

205 Oak Street

Batavia Co: NY 14020-

Landholding Agency: GSA

Property Number: 54200240004

Status: Excess

Comment: 9695 sq. ft., presence of asbestos/lead paint, most recent use—admin/storage, proximity of wetlands

GSA Number: 1-D-NY-890

Hancock Army Complex

Track 4

Stewart Drive West

Cicero Co: Onondaga NY 13039-

Landholding Agency: GSA

Property Number: 54200310013

Status: Excess

Comment: 3 bunker-style structures and several small outbuildings, presence of asbestos, possible lead paint, most recent use—admin/training/storage

GSA Number: 1-D-NY-803

North Carolina

Tarheel Army Missile Plant

Burlington Co: Alamance NC 27215-

Landholding Agency: GSA

Property Number: 54199820002

Status: Excess

Comment: 31 bldgs., presence of asbestos, most recent use—admin., warehouse, production space and 10.04 acres parking area, contamination at site—environmental clean up in process

GSA Number: 4-D-NC-593

Vehicle Maint. Facility 310

New Bern Ave.

Raleigh Co: Wake NC 27601-

Landholding Agency: GSA

Property Number: 54200020012

Status: Excess

Comment: 10,455 sq. ft., most recent use—maintenance garage

GSA Number: NC076AB

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighing facilities/dock, potential use restrictions, property was published in error as available on 2/11/00

GSA Number: 4-D-TN-594F

200 bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Virginia

SSA Trust Fund Bldg.

2301 Park Ave.

Lynchburg Co: VA 24501-

Landholding Agency: GSA

Property Number: 54200340010

Status: Excess

Comment: 3400 sq. ft., most recent use—office

GSA Number: 4-G-VA-0734

Land (by State)

Alaska

37.109 acres

U.S. Coast Guard

Gibson Cove Co: Kodiak AK

Landholding Agency: GSA

Property Number: 54200320001

Status: Surplus

Comment: easements for highway, electrical and communication lines, historical landmark

GSA Number: 9-U-AK-783

Florida

Communications Annex Site

S. Allapattah Road

Homestead Co: Miami-Dade FL

Landholding Agency: GSA

Property Number: 54200310008

Status: Excess

Comment: approx. 20 acres w/deteriorated building, no public water, within 100-year floodplain, approx. 17 acres identified as wetlands, subject to all applicable laws/regulations

GSA Number: 4-D-FL-1078-4A

Georgia

Land w/highway interchange

Fort Benning

I-185 and Hwy 27/280

Columbus Co: Muscogee GA 31905-

Landholding Agency: GSA

Property Number: 54200320002

Status: Excess

Comment: 113 acres—98 acres of this land encumbered by highway interchange

GSA Number: 4-D-GA-0872

Hawaii

Parcels 9, 2, 4

Loran Station Upolu Point

Hawi Co: Hawaii HI

Location:

Resubmitted to Federal Register for publication

Landholding Agency: GSA

Property Number: 54200220002

Status: Surplus

Comment: parcel 9 = 6.242 acres/encumbered by utility and road access easements, parcel 2 = 1.007 acres; parcel 4 = 5.239 acres

GSA Number: 9-U-HI-0572

New Jersey

Belle Mead Depot

Rt. 206/Mountain View Rd.

Hillsborough Co: Somerset NJ 08502-

Landholding Agency: GSA

Property Number: 54200210014

Status: Excess

Comment: approx. 400 acres, property will not be subdivided, contaminants of concern present, lease restriction on 7 acres, 44 miles of railroad track, remediation activity, potential restriction of property f

GSA Number: 1-G-NJ-0642

Tennessee

1500 acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Unsuitable Properties

Buildings (by State)

Alaska

Warehouse

Naval Arctic Research Lab

Cape Sabine Co: AK

Landholding Agency: Navy

Property Number: 77200320001

Status: Excess

Reason: Extensive deterioration

Operations Bldg.

Naval Arctic Research Lab

Cape Sabine Co: AK -

Landholding Agency: Navy

Property Number: 77200320002

Status: Excess

Reason: Extensive deterioration

Warehouse

Naval Arctic Research Lab

Point McIntyre Co: AK

Landholding Agency: Navy

Property Number: 77200320019

Status: Excess

Reason: Extensive deterioration

Garage

Naval Arctic Research Lab

Point McIntyre Co: AK -

Landholding Agency: Navy

Property Number: 77200320020

Status: Excess

Reason: Extensive deterioration

Operations Bldg.

Naval Arctic Research Lab

Point McIntyre Co: AK -

Landholding Agency: Navy

Property Number: 77200320021

Status: Excess

Reason: Extensive deterioration

Arizona

Motor Pool Facility

Tucson Co: AZ 95745-

Landholding Agency: GSA

Property Number: 54200410006

Status: Excess

Reason: contamination

GSA Number: 9-G-AZ-486

California

Bldg. 436

Yosemite National Park

Yosemite Co: Mariposa CA 95389-

Landholding Agency: Interior

Property Number: 61200330022

Status: Unutilized

Reason: Extensive deterioration

Mobile Home/T00706

Yosemite Natl Park 5001 Trailer Court

El Portal Co: Mariposa CA 95318-

Landholding Agency: Interior

Property Number: 61200340009

Status: Unutilized

Reason: Extensive deterioration

133/215 Conlon

Golden Gate Natl Rec Area

Mill Valley Co: Marin CA 94941-

Landholding Agency: Interior

Property Number: 61200340011

Status: Unutilized

Reason: Extensive deterioration

Bldg. 5B7

Marine Corps Recruit Depot

San Diego Co: CA 92140-

Landholding Agency: Navy

Property Number: 77199930089

Status: Unutilized

Reason: Extensive deterioration

Bldg. 23025

Marine Corps Air Station

Miramar Co: CA 92132-

Landholding Agency: Navy

Property Number: 77200030001

Status: Unutilized

Reason: Secured Area

Bldg. 23027

Marine Corps Air Station

Miramar Co: CA 92132-

Landholding Agency: Navy

Property Number: 77200030002

Status: Unutilized

Reason: Secured Area

Bldg. 33023

Naval Air Weapons Station

China Lake Co: CA 93555-6001

Landholding Agency: Navy

Property Number: 77200120115

Status: Excess

Reason: Extensive deterioration

Bldg. 6

Navy Marine Corps Rsv Ctr

Sacramento Co: CA 95828-

Landholding Agency: Navy

Property Number: 77200210017

Status: Unutilized

Reason: Secured Area

Bldg. 799

Naval Air Station

North Island Co: CA

Landholding Agency: Navy

Property Number: 77200210064

Status: Excess

Reason: Extensive deterioration

Bldg. 799

Naval Air Station

North Island Co: CA

Landholding Agency: Navy

Property Number: 77200210124

Status: Excess

Reason: Extensive deterioration

Bldg. 41308

Marine Corps Base

Camp Pendleton Co: CA 92055-

Landholding Agency: Navy

Property Number: 77200220031

Status: Excess

Reason: Extensive deterioration

Bldgs. 154, 157

Navy Region South West

San Diego Co: CA

Landholding Agency: Navy

Property Number: 77200220072

Status: Excess

Reason: Extensive deterioration

Bldg. P-1019

Marine Corps Base

Camp Pendleton Co: CA 92055-

Landholding Agency: Navy

Property Number: 77200220073

Status: Excess

Reason: Extensive deterioration

Bldg. P-4039

Marine Corps Base

Camp Pendleton Co: CA 92055-

Landholding Agency: Navy

Property Number: 77200220074

Status: Excess

Reason: Extensive deterioration

Bldg. P-5011

Marine Corps Base

Camp Pendleton Co: CA 92055-

Landholding Agency: Navy

Property Number: 77200220075

Status: Excess

Reason: Extensive deterioration

Bldg. P7058

Marine Corps Base

Camp Pendleton Co: CA 92055-

Landholding Agency: Navy

Property Number: 77200220076

Status: Excess

Reason: Extensive deterioration

Bldgs. 18412, 18413, 18414

Marine Warfare Training Ctr

Camp Pendleton Co: CA 92055-

Landholding Agency: Navy

Property Number: 77200230040

Status: Excess

Reason: Extensive deterioration

Bldg. 394

Space & Naval Warfare Systems Center

San Diego Co: CA

Landholding Agency: Navy

Property Number: 77200240041

Status: Unutilized

Reason: Extensive deterioration

Bldg. 428

Space & Naval Warfare Systems Center

San Diego Co: CA

Landholding Agency: Navy

Property Number: 77200240042

Status: Unutilized

Reason: Extensive deterioration

Bldg. 513

Naval Postgraduate School

Monterey Co: CA 93943-

Landholding Agency: Navy

Property Number: 77200310004

Status: Excess

Reason: Extensive deterioration

Bldg. 1232

Marine Corps Base

Camp Pendleton Co: CA 92055-

Landholding Agency: Navy

Property Number: 77200310036

Status: Excess

Reason: Extensive deterioration

Bldg. 2297

Marine Corps Base

Camp Pendleton Co: CA 92055-

Landholding Agency: Navy

Property Number: 77200310037

Status: Excess

Reason: Extensive deterioration

Bldg. 25037

Marine Corps Base

Camp Pendleton Co: CA 92055-

Landholding Agency: Navy

Property Number: 77200310038

Status: Excess

Reason: Extensive deterioration

Bldg. 25168

Marine Corps Base

Camp Pendleton Co: CA 92055-

Landholding Agency: Navy

Property Number: 77200310039

Status: Excess

Reason: Extensive deterioration

Bldg. 31339

Marine Corps Base

Camp Pendleton Co: CA 92055-

Landholding Agency: Navy

Property Number: 77200310040

Status: Excess

Reason: Extensive deterioration

Bldg. 31350

Marine Corps Base

Camp Pendleton Co: CA 92055-

Landholding Agency: Navy

Property Number: 77200310041

Status: Excess

Reason: Extensive deterioration

Bldg. 31628

Marine Corps Base

Camp Pendleton Co: CA 92055-

Landholding Agency: Navy

Property Number: 77200310042

Status: Excess

Reason: Extensive deterioration

Bldg. 31629

Marine Corps Base

Camp Pendleton Co: CA 92055-

Landholding Agency: Navy

Property Number: 77200310043

Status: Excess

Reason: Extensive deterioration

Bldg. 31753

Marine Corps Base

Camp Pendleton Co: CA 92055-

Landholding Agency: Navy

Property Number: 77200310044

Status: Excess

Reason: Extensive deterioration

Bldg. 31754

Marine Corps Base

Camp Pendleton Co: CA 92055-

Landholding Agency: Navy

Property Number: 77200310045

Status: Excess

Reason: Extensive deterioration

Bldg. 31764

Marine Corps Base

Camp Pendleton Co: CA 92055-

Landholding Agency: Navy

Property Number: 77200310046

Status: Unutilized

Reason: Extensive deterioration

Bldg. 52540

Marine Corps Base

Camp Pendleton Co: CA 92055-

Landholding Agency: Navy

Property Number: 77200310047

Status: Excess

Reason: Extensive deterioration

Bldg. 220178

Marine Corps Base

Camp Pendleton Co: CA 92055-

Landholding Agency: Navy

Property Number: 77200310048

Status: Excess

Reason: Extensive deterioration

Bldg. 232

Naval Air Facility

El Centro Co: CA 92243-

Landholding Agency: Navy

Property Number: 77200310055

Status: Unutilized

Reason: Extensive deterioration

Bldg. 2203

Marine Corps Base

Camp Pendleton Co: CA

Landholding Agency: Navy

Property Number: 77200320022

Status: Excess

Reason: Extensive deterioration

Bldg. 2683

Marine Corps Base

Camp Pendleton Co: CA 92055-

Landholding Agency: Navy

Property Number: 77200320023

Status: Excess

Reason: Extensive deterioration

Bldg. 2685

Marine Corps Base

Camp Pendleton Co: CA 92055-

Landholding Agency: Navy

Property Number: 77200320024

Status: Excess

Reason: Extensive deterioration

Bldg. 2692

Marine Corps Base

Camp Pendleton Co: CA 92055-

Landholding Agency: Navy

Property Number: 77200320025

Status: Excess

Reason: Extensive deterioration

Bldg. 20735

Marine Corps Base

Camp Pendleton Co: CA 92055-

Landholding Agency: Navy

Property Number: 77200320026

Status: Excess

Reason: Extensive deterioration

Bldg. 21546

Marine Corps Base

Camp Pendleton Co: CA 92055-

Landholding Agency: Navy

Property Number: 77200320027

Status: Excess

Reason: Extensive deterioration

Bldg. 26034

Marine Corps Base

Camp Pendleton Co: CA 92055-

Landholding Agency: Navy

Property Number: 77200320028

Status: Excess

Reason: Extensive deterioration

Bldg. 141MG

Naval Recreation Center

Naval Base

San Diego Co: CA

Landholding Agency: Navy

Property Number: 77200320054

Status: Excess

Reason: Extensive deterioration

Bldg. 56

Naval Air Station

Lemoore Co: CA

Landholding Agency: Navy

Property Number: 77200330001

Status: Excess

Reasons: Secured Area, Extensive deterioration

Structure 63

Naval Air Station

Lemoore Co: CA

Landholding Agency: Navy

Property Number: 77200330002

Status: Excess

Reason: Secured Area

Structure 64

Naval Air Station

Lemoore Co: CA

Landholding Agency: Navy

Property Number: 77200330003

Status: Excess

Reason: Secured Area

Structure 65

Naval Air Station

Lemoore Co: CA

Landholding Agency: Navy

Property Number: 77200330004

Status: Excess

Reason: Secured Area

Bldg. 70

Naval Air Station

Lemoore Co: CA

Landholding Agency: Navy

Property Number: 77200330005

Status: Excess

Reasons: Secured Area

Extensive deterioration

Bldg. 75

Naval Air Station

Lemoore Co: CA

Landholding Agency: Navy

Property Number: 77200330006

Status: Excess

Reasons: Secured Area, Extensive deterioration

Bldg. 776

Naval Air Station

Lemoore Co: CA

Landholding Agency: Navy

Property Number: 77200330007

Status: Excess

Reasons: Secured Area, Extensive deterioration

Bldg. 818

Naval Air Station

Lemoore Co: CA

Landholding Agency: Navy

Property Number: 77200330008

Status: Excess

Reasons: Secured Area, Extensive deterioration

Bldg. 827

Naval Air Station

Lemoore Co: CA

Landholding Agency: Navy

Property Number: 77200330009

Status: Excess

Reasons: Secured Area, Extensive deterioration

Bldg. 931

Naval Air Station

Lemoore Co: CA

Landholding Agency: Navy

Property Number: 77200330010

Status: Excess

Reasons: Secured Area, Extensive deterioration

Bldg. 935

Naval Air Station

Lemoore Co: CA

Landholding Agency: Navy

Property Number: 77200330011

Status: Excess

Reasons: Secured Area, Extensive deterioration

Bldg. 742

Naval Air Station

Lemoore Co: CA

Landholding Agency: Navy

Property Number: 77200330015

Status: Excess

Reason: Secured Area

Bldg. 743

Naval Air Station

Lemoore Co: CA

Landholding Agency: Navy

Property Number: 77200330016

Status: Excess

Reasons: Secured Area, Extensive deterioration

Bldg. 744

Naval Air Station

Lemoore Co: CA

Landholding Agency: Navy

Property Number: 77200330017

Status: Excess

Reason: Secured Area

Bldg. 745

Naval Air Station

Lemoore Co: CA

Landholding Agency: Navy

Property Number: 77200330018

Status: Excess

Reasons: Secured Area, Extensive deterioration

Bldg. 746

Naval Air Station

Lemoore Co: CA

Landholding Agency: Navy

Property Number: 77200330019

Status: Excess

Reason: Secured Area

Bldg. 751

Naval Air Station

Lemoore Co: CA

Landholding Agency: Navy

Property Number: 77200330020

Status: Excess

Reason: Secured Area

Bldg. 754

Naval Air Station

Lemoore Co: CA

Landholding Agency: Navy

Property Number: 77200330021

Status: Excess

Reasons: Secured Area, Extensive deterioration

Bldg. 483

Naval Air Station

North Island

San Diego Co: CA 92135-7040

Landholding Agency: Navy

Property Number: 77200330022

Status: Excess

Reason: Extensive deterioration

Bldg. 490

Naval Air Station

North Island

San Diego Co: CA 92135-7040

Landholding Agency: Navy

Property Number: 77200330023

Status: Excess

Reason: Extensive deterioration

Bldg. 606

Naval Air Station

North Island

San Diego Co: CA

Landholding Agency: Navy

Property Number: 77200330024

Status: Excess

Reasons: Secured Area, Extensive deterioration

Bldg. 620

Naval Air Station

North Island

San Diego Co: CA 92135-7040

Landholding Agency: Navy

Property Number: 77200330025

Status: Excess

Reasons: Secured Area, Extensive deterioration

Bldg. 697

Naval Air Station

North Island

San Diego Co: CA 92135-7040

Landholding Agency: Navy

Property Number: 77200330026

Status: Excess

Reasons: Secured Area, Extensive deterioration

Bldg. 76

Space & Naval Warfare

San Diego Co: CA

Landholding Agency: Navy

Property Number: 77200330027

Status: Excess

Reason: Extensive deterioration

Bldgs. 15 & 16

Fleet ASW Training Center

San Diego Co: CA

Landholding Agency: Navy

Property Number: 77200330028

Status: Excess

Reason: Extensive deterioration

Bldgs. 20 & 21

Fleet ASW Training Center

San Diego Co: CA

Landholding Agency: Navy

Property Number: 77200330029

Status: Excess

Reason: Extensive deterioration

Bldg. 23

Fleet ASW Training Center

San Diego Co: CA

Landholding Agency: Navy

Property Number: 77200330030

Status: Excess

Reason: Extensive deterioration

Bldg. 28

Fleet ASW Training Center

San Diego Co: CA

Landholding Agency: Navy

Property Number: 77200330031

Status: Excess

Reason: Extensive deterioration

Bldg. 32

Fleet ASW Training Center

San Diego Co: CA

Landholding Agency: Navy

Property Number: 77200330032

Status: Excess

Reason: Extensive deterioration

Bldgs. 37 & 39

Fleet ASW Training Center

San Diego Co: CA

Landholding Agency: Navy

Property Number: 77200330033

Status: Excess

Reason: Extensive deterioration

Bldg. 63

Fleet ASW Training Center

San Diego Co: CA

Landholding Agency: Navy

Property Number: 77200330034

Status: Excess

Reason: Extensive deterioration

Bldg. 69

Fleet ASW Training Center

San Diego Co: CA

Landholding Agency: Navy

Property Number: 77200330035

Status: Excess

Reason: Extensive deterioration

Bldg. 2043

Fleet ASW Training Center

San Diego Co: CA

Landholding Agency: Navy

Property Number: 77200330036

Status: Excess

Reason: Extensive deterioration

Bldg. 116

Naval Submarine Base

San Diego Co: CA

Landholding Agency: Navy

Property Number: 77200330037

Status: Excess

Reason: Extensive deterioration

Bldg. 508

Naval Submarine Base

San Diego Co: CA

Landholding Agency: Navy

Property Number: 77200330038

Status: Excess

Reason: Extensive deterioration

Bldg. 19

Naval Submarine Base

San Diego Co: CA

Landholding Agency: Navy

Property Number: 77200330039

Status: Excess

Reason: Extensive deterioration

Bldgs. 62341 & 62342

Marine Corps Base

Camp Pendleton Co: CA 92055-

Landholding Agency: Navy

Property Number: 77200330040

Status: Excess

Reason: Extensive deterioration

Bldg. 1361

Marine Corps Base

Camp Pendleton Co: CA 92055-

Landholding Agency: Navy

Property Number: 77200340001

Status: Excess

Reason: Extensive deterioration

Bldg. 22135

Marine Corps Base

Camp Pendleton Co: CA 92055-

Landholding Agency: Navy

Property Number: 77200340002

Status: Excess

Reason: Extensive deterioration

Bldg. 22136

Marine Corps Base

Camp Pendleton Co: CA 92055-

Landholding Agency: Navy

Property Number: 77200340003

Status: Excess

Reason: Extensive deterioration

Bldg. 22144

Marine Corps Base

Camp Pendleton Co: CA 92055-

Landholding Agency: Navy

Property Number: 77200340004

Status: Excess

Reason: Extensive deterioration

Bldg. 22147

Marine Corps Base

Camp Pendleton Co: CA 92055-

Landholding Agency: Navy

Property Number: 77200340005

Status: Excess

Reason: Extensive deterioration

Bldg. 22148

Marine Corps Base

Camp Pendleton Co: CA 92055-

Landholding Agency: Navy

Property Number: 77200340006

Status: Excess

Reason: Extensive deterioration

Bldg. 22149

Marine Corps Base

Camp Pendleton Co: CA 92055-

Landholding Agency: Navy

Property Number: 77200340007

Status: Excess

Reason: Extensive deterioration

Bldg. F

Coast Guard Air Station

San Bruno Co: San Mateo CA 94066-

Landholding Agency: Coast Guard

Property Number: 88200330007

Status: Underutilized

Reason: Secured Area

Bldg. H

Coast Guard Air Station

San Bruno Co: San Mateo CA 94066-

Landholding Agency: Coast Guard

Property Number: 88200330008

Status: Unutilized

Reason: Secured Area

Colorado

Bldg. 574

National Park

Old Glacier Creek

Rocky Mountain Co: Larimer CO 80517-

Landholding Agency: Interior

Property Number: 61200330001

Status: Unutilized

Reason: Extensive deterioration

Bldg. B-777

National Park

Conservation Camp

Rocky Mountain Co: Grand CO 80447-

Landholding Agency: Interior

Property Number: 61200330002

Status: Unutilized

Reasons: not accessible, Extensive deterioration

Bldg. B-781

National Park

Conservation Camp

Rocky Mountain Co: Grand CO 80447-

Landholding Agency: Interior

Property Number: 61200330003

Status: Unutilized

Reasons: not accessible, Extensive deterioration

Bldg. B-852

National Park

Conservation Camp

Rocky Mountain Co: Grand CO 80447-

Landholding Agency: Interior

Property Number: 61200330004

Status: Unutilized

Reason: not accessible

Wales Bldg. B-816

National Park

Rocky Mountain Co: Grand CO 80447-

Landholding Agency: Interior

Property Number: 61200330005

Status: Unutilized

Reason: Extensive deterioration

Wales Bldg. B-817

National Park

Rocky Mountain Co: Grand CO 80447-

Landholding Agency: Interior

Property Number: 61200330006

Status: Unutilized

Reason: Extensive deterioration

Wales Bldg. B-818

National Park

Rocky Mountain Co: Grand CO 80447-

Landholding Agency: Interior

Property Number: 61200330007

Status: Unutilized

Reason: Extensive deterioration

Connecticut

Bldgs. A92, A93, A94

Naval Submarine Base

Groton Co: New London CT 06349-

Landholding Agency: Navy

Property Number: 77200340008

Status: Unutilized

Reasons: Within 2000 ft. of flammable or explosive material, Secured Area

Florida

U.S. Customs House

1700 Spangler Boulevard

Hollywood Co: Broward FL 33316-

Landholding Agency: GSA

Property Number: 54200140012

Status: Surplus

Reasons: Within 2000 ft. of flammable or explosive material, Secured Area

GSA Number: 4-G-FL-1173

Bldg. C-26

Naval Air Station

Key West Co: Monroe FL 33040-

Landholding Agency: Navy

Property Number: 77200240043

Status: Unutilized

Reason: Extensive deterioration

Bldg. F-44

Naval Air Station

Key West Co: Monroe FL 33040-

Landholding Agency: Navy

Property Number: 77200240044

Status: Unutilized

Reason: Extensive deterioration

Bldg. 292

Naval Air Facility

Key West Co: Monroe FL 33040-

Landholding Agency: Navy

Property Number: 77200310058

Status: Unutilized

Reason: Extensive deterioration

Bldg. 1481

Naval Air Station

Milton Co: FL 32570-6001

Landholding Agency: Navy

Property Number: 77200310059

Status: Excess

Reasons: Within 2000 ft. of flammable or explosive material, Secured Area, Extensive deterioration

8 Bldgs.

Naval Air Station

Milton Co: FL 32570-6001

Location: 1440, 1440A, 1437, 1444, 1444A, 1444G, 2927, 2886

Landholding Agency: Navy

Property Number: 77200320055

Status: Excess

Reasons: Within 2000 ft. of flammable or explosive material, Secured Area, Extensive deterioration

Georgia

Bldg. 14

Naval Air Station

Marietta Co: Cobb GA 30060-

Landholding Agency: Navy

Property Number: 77200310049

Status: Unutilized

Reasons: Within airport runway clear zone, Secured Area, Extensive deterioration

Bldg. 15

Naval Air Station

Marietta Co: Cobb GA 30060-

Landholding Agency: Navy

Property Number: 77200310050

Status: Unutilized

Reasons: Within airport runway clear zone, Secured Area, Extensive deterioration

Bldg. 109

Naval Air Station

Marietta Co: Cobb GA 30060-

Landholding Agency: Navy

Property Number: 77200310051

Status: Unutilized

Reasons: Secured Area, Extensive deterioration

Guam

Bldg. 138

Naval Forces, Marianas

Marianas Co: GU 96540-

Landholding Agency: Navy

Property Number: 77200210100

Status: Unutilized

Reason: Secured Area

Bldg. 460

Naval Forces, Marianas

Marianas Co: GU 96540-

Landholding Agency: Navy

Property Number: 77200210101

Status: Unutilized

Reason: Secured Area

Bldg. 1741

Naval Forces, Marianas

Marianas Co: GU 96540-

Landholding Agency: Navy

Property Number: 77200210102

Status: Unutilized

Reason: Secured Area

Bldg. 1742

Naval Forces, Marianas

Marianas Co: GU 96540-

Landholding Agency: Navy

Property Number: 77200210103

Status: Underutilized

Reason: Secured Area

Bldg. 1743

Naval Forces, Marianas

Marianas Co: GU 96540-

Landholding Agency: Navy

Property Number: 77200210104

Status: Underutilized

Reason: Secured Area

Bldg. 6012

Naval Forces, Marianas

Marianas Co: GU 96540-

Landholding Agency: Navy

Property Number: 77200210105

Status: Unutilized

Reason: Secured Area

Bldg. 6011

Naval Forces, Marianas

Marianas Co: GU 96540-

Landholding Agency: Navy

Property Number: 77200220024

Status: Unutilized

Reason: Secured Area

Bldgs. 23, 25, 29

US Naval Ship Repair Facility

Marianas Co: GU -

Landholding Agency: Navy

Property Number: 77200320003

Status: Unutilized

Reasons: Secured Area, Extensive deterioration

Bldgs. 31, 36, 38

US Naval Ship Repair Facility

Marianas Co: GU -

Landholding Agency: Navy

Property Number: 77200320004

Status: Unutilized

Reasons: Secured Area, Extensive deterioration

Bldgs. 93-1, 94

US Naval Ship Repair Facility

Marianas Co: GU -

Landholding Agency: Navy

Property Number: 77200320005

Status: Unutilized

Reasons: Secured Area, Extensive deterioration

Bldgs. 2001A, 2004

US Naval Ship Repair Facility

Marianas Co: GU -

Landholding Agency: Navy

Property Number: 77200320006

Status: Unutilized

Reasons: Secured Area, Extensive deterioration

Bldgs. 2008, 2062

US Naval Ship Repair Facility

Marianas Co: GU -

Landholding Agency: Navy

Property Number: 77200320007

Status: Unutilized

Reasons: Secured Area, Extensive deterioration

Bldgs. 2010, 2013, 2028

US Naval Ship Repair Facility

Marianas Co: GU -

Landholding Agency: Navy

Property Number: 77200320008

Status: Unutilized

Reasons: Secured Area, Extensive deterioration

Bldgs. 2039-2044

US Naval Ship Repair Facility

Marianas Co: GU -

Landholding Agency: Navy

Property Number: 77200320009

Status: Unutilized

Reasons: Secured Area, Extensive deterioration

Bldg. 2049

US Naval Ship Repair Facility

Marianas Co: GU -

Landholding Agency: Navy

Property Number: 77200320010

Status: Unutilized

Reasons: Secured Area, Extensive deterioration

Bldgs. 2053, 2054, 2055

US Naval Ship Repair Facility

Marianas Co: GU -

Landholding Agency: Navy

Property Number: 77200320011

Status: Unutilized

Reasons: Secured Area, Extensive deterioration

Bldgs. 2061, 2068, 2069

US Naval Ship Repair Facility

Marianas Co: GU -

Landholding Agency: Navy

Property Number: 77200320012

Status: Unutilized

Reasons: Secured Area, Extensive deterioration

Bldgs. 2070, 2071, 2074

US Naval Ship Repair Facility

Marianas Co: GU -

Landholding Agency: Navy

Property Number: 77200320013

Status: Unutilized

Reasons: Secured Area, Extensive deterioration

Bldg. 2081

US Naval Ship Repair Facility

Marianas Co: GU -

Landholding Agency: Navy

Property Number: 77200320014

Status: Unutilized

Reasons: Secured Area, Extensive deterioration

Bldgs. 2100, 2102

US Naval Ship Repair Facility

Marianas Co: GU -

Landholding Agency: Navy

Property Number: 77200320015

Status: Unutilized

Reasons: Secured Area, Extensive deterioration

Hawaii

Bldg. 9

Navy Public Works Center

Kolekole Road

Lualualei Co: Honolulu HI 96782-

Landholding Agency: Navy

Property Number: 77199530009

Status: Excess

Reasons: Within 2000 ft. of flammable or explosive material, Secured Area

Bldg. X5

Nanumea Road

Pearl Harbor Co: Honolulu HI 96782-

Landholding Agency: Navy

Property Number: 77199530010

Status: Excess

Reason: Secured Area

Bldg. SX30

Nanumea Road

Pearl Harbor Co: Honolulu HI 96860-

Landholding Agency: Navy

Property Number: 77199530011

Status: Excess

Reason: Secured Area

Bldg. Q13

Naval Station, Ford Island

Pearl Harbor Co: Honolulu HI 96860-

Landholding Agency: Navy

Property Number: 77199640035

Status: Unutilized

Reason: Extensive deterioration

Bldg. Q14

Naval Station, Ford Island

Pearl Harbor Co: Honolulu HI 96860-

Landholding Agency: Navy

Property Number: 77199640036

Status: Unutilized

Reason: Extensive deterioration

Bldg. 40

Naval Magazine Lualualei

Co: Oahu HI 96792-4301

Landholding Agency: Navy

Property Number: 77199830028

Status: Unutilized

Reason: Extensive deterioration

Bldg. 50

Naval Magazine Lualualei

Co: Oahu HI 96792-4301

Landholding Agency: Navy

Property Number: 77199830029

Status: Unutilized

Reason: Extensive deterioration

Bldg. Q76

Naval Magazine Lualualei

Co: Oahu HI 96792-4301

Landholding Agency: Navy

Property Number: 77199830030

Status: Unutilized

Reason: Extensive deterioration

Bldg. Q334

Naval Magazine Lualualei

Co: Oahu HI 96792-4301

Landholding Agency: Navy

Property Number: 77199830031

Status: Unutilized

Reason: Extensive deterioration

Bldg. Q410

Naval Magazine Lualualei

Co: Oahu HI 96792-4301

Landholding Agency: Navy

Property Number: 77199830034

Status: Unutilized

Reason: Extensive deterioration

Bldg. Q422

Naval Magazine Lualualei

Co: Oahu HI 96792-4301

Landholding Agency: Navy

Property Number: 77199830035

Status: Unutilized

Reason: Extensive deterioration

Bldg. 429

Naval Magazine Lualualei

Co: Oahu HI 96792-4301

Landholding Agency: Navy

Property Number: 77199830036

Status: Unutilized

Reason: Extensive deterioration

Bldg. 431

Naval Magazine Lualualei

Co: Oahu HI 96792-4301

Landholding Agency: Navy

Property Number: 77199830037

Status: Unutilized

Reason: Extensive deterioration

Bldg. 447

Naval Magazine Lualualei

Co: Oahu HI 96792-4301

Landholding Agency: Navy

Property Number: 77199830038

Status: Unutilized

Reason: Extensive deterioration

Facility 19

Naval Station

Pearl Harbor Co: Honolulu HI 96860-

Landholding Agency: Navy

Property Number: 77199840045

Status: Excess

Reason: Secured Area

Facility SX30

Navy Public Works Center

Pearl Harbor Co: Honolulu HI 96860-

Landholding Agency: Navy

Property Number: 77199920027

Status: Excess

Reasons: Secured Area, Extensive deterioration

Bldg. T47

Naval Shipyard

Pearl Harbor Co: Honolulu HI 96860-5350

Landholding Agency: Navy

Property Number: 77200240045

Status: Unutilized

Reason: Extensive deterioration

Bldg. 621

Naval Station, Pearl Harbor

Honolulu Co: HI 96860-

Landholding Agency: Navy

Property Number: 77200310001

Status: Excess

Reason: Extensive deterioration

Change Room

Base Camp

Kahoolawe Co: Maui HI

Landholding Agency: Navy

Property Number: 77200320059

Status: Excess

Reasons: Not accessible by road, Within 2000 ft. of flammable or explosive material

Electric Generator Bldg.

Base Camp

Kahoolawe Co: Maui HI -

Landholding Agency: Navy

Property Number: 77200320060

Status: Excess

Reasons: Not accessible by road, Within 2000 ft. of flammable or explosive material

Compressor Shed

Base Camp

Kahoolawe Co: Maui HI -

Landholding Agency: Navy

Property Number: 77200320061

Status: Excess

Reasons: Not accessible by road, Within 2000 ft. of flammable or explosive material

System Shed

Base Camp

Kahoolawe Co: Maui HI

Landholding Agency: Navy

Property Number: 77200320062

Status: Excess

Reasons: Not accessible by road, Within 2000 ft. of flammable or explosive material

Bldgs. 730, 766

Pearl City Peninsula

Pearl City Co: HI 96819-

Landholding Agency: Navy

Property Number: 77200340043

Status: Unutilized

Reason: Extensive deterioration

Illinois

Bldg. 415

Naval Training Center

201 N. Decatur Ave.

Great Lakes IL

Landholding Agency: Navy

Property Number: 77199840023

Status: Unutilized

Reason: Secured Area

Bldg. 1015

Naval Training Center

201 N. Decatur Ave.

Great Lakes IL

Landholding Agency: Navy

Property Number: 77199840024

Status: Unutilized

Reason: Secured Area

Bldg. 1016

Naval Training Center

201 N. Decatur Ave.

Great Lakes IL

Landholding Agency: Navy

Property Number: 77199840025

Status: Unutilized

Reason: Secured Area

Bldg. 910

Naval Training Center

Great Lakes Co: IL 60088-5000

Landholding Agency: Navy

Property Number: 77199920055

Status: Unutilized

Reason: Secured Area

Bldg. 800

Naval Training Center

Great Lakes Co: IL 60088-5000

Landholding Agency: Navy

Property Number: 77199920056

Status: Unutilized

Reason: Secured Area

Bldg. 1000

Naval Training Center

Great Lakes Co: IL 60088-5000

Landholding Agency: Navy

Property Number: 77199920057

Status: Unutilized

Reason: Secured Area

Bldg. 1200

Naval Training Center

Great Lakes Co: IL 60088-5000

Landholding Agency: Navy

Property Number: 77199920058

Status: Unutilized

Reason: Secured Area

Bldg. 1400

Naval Training Center

Great Lakes Co: IL 60088-5000

Landholding Agency: Navy

Property Number: 77199920059

Status: Unutilized

Reason: Secured Area

Bldg. 1600

Naval Training Center

Great Lakes Co: IL 60088-5000

Landholding Agency: Navy

Property Number: 77199920060

Status: Unutilized

Reason: Secured Area

Bldg. 2600

Naval Training Center

Great Lakes Co: IL 60088-5000

Landholding Agency: Navy

Property Number: 77199920061

Status: Unutilized

Reason: Secured Area

Indiana

Bldg. 12

Naval Air Warfare

Crane Co: Martin IN 47522-

Landholding Agency: Navy

Property Number: 77200330041

Status: Excess

Reason: Extensive deterioration

Bldg. 2517

Naval Air Warfare

Crane Co: Martin IN 47522-

Landholding Agency: Navy

Property Number: 77200330042

Status: Excess

Reason: Extensive deterioration

Bldg. BH2

Naval Air Warfare

Crane Co: Martin IN 47522-

Landholding Agency: Navy

Property Number: 77200330043

Status: Excess

Reason: Extensive deterioration

Kansas

Sunflower AAP

DeSoto Co: Johnson KS 66018-

Landholding Agency: GSA

Property Number: 54199830010

Status: Excess

Reason: Extensive deterioration

GSA Number: 7-D-KS-0581

Maine

Bldg. M-4

Portsmouth Naval Shipyard

Kittery Co: York ME 03904-

Landholding Agency: Navy

Property Number: 77200240012

Status: Excess

Reason: Secured Area

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York ME 03904-

Landholding Agency: Navy

Property Number: 77200240015

Status: Excess

Reason: Secured Area

Bldg. M-11

Portsmouth Naval Shippyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reasons: Within 2000 ft. of flammable or explosive material, Secured Area

Bldg. 33

Portsmouth Naval Shipyard

Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material, Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Bldg. 150

Portsmouth Naval Shipyard

Kittery Co: York ME

Landholding Agency: Navy

Property Number: 77200340040

Status: Excess

Reason: Extensive deterioration

Maryland

Bloody Pt Bar Lighthouse

Chesapeake Bay

Kent Co: MD

Landholding Agency: GSA

Property Number: 54200330002

Status: Excess

Reason: not accessible

GSA Number: 4-U-MD-0612

Bldg. 503A

Naval Air Station

Patuxent River Co: MD

Landholding Agency: Navy

Property Number: 77200330012

Status: Excess

Reason: Extensive deterioration

Bldgs. 200068, 200069

JHU Applied Physics Lab

Laurel Co: Howard MD 20723-

Landholding Agency: Navy

Property Number: 77200340015

Status: Excess

Reason: Extensive deterioration

4 Bldgs.

JHU Applied Physics lab

200075, 200076, 200077, 200079

Laurel Co: Howard MD 20723-

Landholding Agency: Navy

Property Number: 77200340016

Status: Excess

Reason: Extensive deterioration

Bldgs. 200083, 200086

JHU Applied Physics Lab

Laurel Co: Howard MD 20723-

Landholding Agency: Navy

Property Number: 77200340017

Status: Excess

Reason: Extensive deterioration

Bldgs. 200087, 200088, 200089

JHU Applied Physics Lab

Laurel Co: Howard MD 20723-

Landholding Agency: Navy

Property Number: 77200340018

Status: Excess

Reason: Extensive deterioration

5 Bldgs.

JHU Applied Physics Lab

200091, 200095, 200096, 200098, 200099

Laurel Co: Howard MD 20723-

Landholding Agency: Navy

Property Number: 77200340019

Status: Excess

Reason: Extensive deterioration

Bldgs. 200101, 200106, 200107

JHU Applied Physics Lab

Laurel Co: Howard MD 20773-

Landholding Agency: Navy

Property Number: 77200340020

Status: Excess

Reason: Extensive deterioration

Bldgs. 200108, 200109, 200110

JHU Applied Physics Lab

Laurel Co: Howard MD 20723-

Landholding Agency: Navy

Property Number: 77200340021

Status: Excess

Reason: Extensive deterioration

Bldgs. 200120, 200121, 200122

JHU Applied Physics Lab

Laurel Co: Howard MD 20773-

Landholding Agency: Navy

Property Number: 77200340022

Status: Excess

Reason: Extensive deterioration

Bldgs. 200124, 200125, 200126

JHU Applied Physics Lab

Laurel Co: Howard MD 20773-

Landholding Agency: Navy

Property Number: 77200340023

Status: Excess

Reason: Extensive deterioration

Bldgs. 200128, 200133

JHU Applied Physics Lab

Laurel Co: Howard MD 20723-

Landholding Agency: Navy

Property Number: 77200340024

Status: Excess

Reason: Extensive deterioration

Bldgs. 200137, 200138

JHU Applied Physics Lab

Laurel Co: Howard MD 20773-

Landholding Agency: Navy

Property Number: 77200340025

Status: Excess

Reason: Extensive deterioration

Massachusetts

Wayland Army Natl Guard Fac.

Oxbow Road

Wayland Co: MA 01778-

Landholding Agency: GSA

Property Number: 54200240007

Status: Surplus

Reason: Extensive deterioration

GSA Number: 1-D-MA-0725

Michigan

Stroh Army Reserve Center

17825 Sherwood Ave.

Detroit Co: Wayne MI 00000-

Landholding Agency: GSA

Property Number: 54200040001

Status: Surplus

Reason: Within 2000 ft. of flammable or explosive material

GSA Number: 1-D-MI-798

Pipe Island Lighthouse

St. Mary's River

Chippewa Co: MI

Landholding Agency: GSA

Property Number: 54200310007

Status: Excess

Reason: Not accessible by road

GSA Number: 1-U-MI-413A

Minnesota

Nike Battery Site, MS-40

Castle Rock Township

Farmington Co: Dakota MN 00000-

Landholding Agency: GSA

Property Number: 54200020004

Status: Surplus

Reason: Within 2000 ft. of flammable or explosive material

GSA Number: 1-I-MN-451-B

Parcel B

Twin Cities Army Ammunition Plant

Arden Hills Co: MN 55112-3938

Landholding Agency: GSA

Property Number: 54200240015

Status: Excess

Reason: Within 2000 ft. of flammable or explosive material

GSA Number: 1-D-MN-0578B

Mississippi

Bldgs. 239, 240

Naval Air Station

Meridian Co: Lauderdale MS 39309-

Landholding Agency: Navy

Property Number: 77200240060

Status: Unutilized

Reason: Secured Area

Bldg. 248

Naval Air Station

Meridian Co: Lauderdale MS 39309-

Landholding Agency: Navy

Property Number: 77200240061

Status: Unutilized

Reason: Secured Area

Bldg. 412

Naval Air Station

Meridian Co: Lauderdale MS 39309-

Landholding Agency: Navy

Property Number: 77200240062

Status: Unutilized

Reason: Secured Area

146 Units

Naval Air Station

Meridian Co: MS 39309-

Landholding Agency: Navy

Property Number: 77200310005

Status: Unutilized

Reason: Secured Area

Montana

Bldg.

Tiber Dam

Chester Co: Liberty MT 59522-

Landholding Agency: Interior

Property Number: 61200410005

Status: Excess

Reason: Extensive deterioration

Nevada

6 Bldgs.

Dale Street Complex

300, 400, 500, 600, Block Bldg, Valve House

Boulder City Co: NV 89005-

Landholding Agency: GSA

Property Number: 54200020017

Status: Excess

Reason: Extensive deterioration

GSA Number : LC-00-01-RP

New Hampshire

Bldg. 40

Portsmouth Naval Shipyard

Portsmouth Co: NH 03804-5000

Landholding Agency: Navy

Property Number: 77200240031

Status: Excess

Reasons: Within 2000 ft. of flammable or explosive material, Secured Area

New Jersey

Former NIKE Missile Battery

Site PH-58

Woolwich Co: Gloucester NJ

Landholding Agency: GSA

Property Number: 54200310012

Status: Excess

Reason: Extensive deterioration

GSA Number : 1-GR-NJ-0538

Bldg. 263

Naval Air Engineering Station

Lakehurst Co: Ocean NJ 08733-5000

Landholding Agency: Navy

Property Number: 77200310002

Status: Unutilized

Reason: Extensive deterioration

Bldg. GB-1

Naval Weapons Station

Colts Neck Co: NJ 07722-

Landholding Agency: Navy

Property Number: 77200310013

Status: Unutilized

Reason: Extensive deterioration

Bldg. D-5

Naval Weapons Station

Colts Neck Co: NJ 07722-

Landholding Agency: Navy

Property Number: 77200310014

Status: Unutilized

Reason: Extensive deterioration

Bldg. 6A

Naval Weapons Station

Colts Neck Co: NJ 07722-

Landholding Agency: Navy

Property Number: 77200310015

Status: Unutilized

Reason: Extensive deterioration

Bldg. C-14

Naval Weapons Station

Colts Neck Co: NJ 07722-

Landholding Agency: Navy

Property Number: 77200310016

Status: Unutilized

Reason: Extensive deterioration

Bldg. C-31

Naval Weapons Station

Colts Neck Co: NJ 07722-

Landholding Agency: Navy

Property Number: 77200310017

Status: Unutilized

Reason: Extensive deterioration

Bldg. C-36

Naval Weapons Station

Colts Neck Co: NJ 07722-

Landholding Agency: Navy

Property Number: 77200310018

Status: Unutilized

Reason: Extensive deterioration

Bldg. S-179

Naval Weapons Station

Colts Neck Co: NJ 07722-

Landholding Agency: Navy

Property Number: 77200310019

Status: Unutilized

Reason: Extensive deterioration

Bldg. 531

Naval Weapons Station

Colts Neck Co: NJ 07722-

Landholding Agency: Navy

Property Number: 77200310020

Status: Unutilized

Reason: Extensive deterioration

Bldg. 569

Naval Weapons Station

Colts Neck Co: NJ 07722-

Landholding Agency: Navy

Property Number: 77200310021

Status: Unutilized

Reason: Extensive deterioration

Bldg. 570

Naval Weapons Station

Colts Neck Co: NJ 07722-

Landholding Agency: Navy

Property Number: 77200310022

Status: Unutilized

Reason: Extensive deterioration

Bldg. 589

Naval Weapons Station

Colts Neck Co: NJ 07722-

Landholding Agency: Navy

Property Number: 77200310023

Status: Unutilized

Reason: Extensive deterioration

Bldg. 260

Coast Guard Training Center

Cape May Co: NJ 08204-

Landholding Agency: Coast Guard

Property Number: 88200330001

Status: Excess

Reasons: Secured Area, Extensive deterioration

Structure U02

Coast Guard Training Center

Cape May Co: NJ 08204-

Landholding Agency: Coast Guard

Property Number: 88200330002

Status: Excess

Reason: Secured Area

New Mexico

Bldg. N149

Naval Air Warfare

White Sands Co: NM 88002-

Landholding Agency: Navy

Property Number: 77200110104

Status: Excess

Reason: Extensive deterioration

New York

Bldgs/Pier/Field

USCG/Ft. Totten

Borough of Queens Co: Flushing NY

Landholding Agency: GSA

Property Number: 54200320015

Status: Surplus

Reason: contamination

GSA Number: 1-U-NY-882

Gardiners Point

Long Island Co: Suffolk NY

Landholding Agency: GSA

Property Number: 54200340003

Status: Excess

Reasons: no access/unexploded ordnance

Extensive deterioration

GSA Number: 1-N-NY-897

Ohio

Army Reserve Center

Plymouth Road

Jamestown Co: Greene OH 45335-

Landholding Agency: GSA

Property Number: 54200340009

Status: Surplus

Reason: Extensive deterioration

GSA Number: 4-G-VA-0734

Oregon

Bldg. 30

Naval Weapons Systems Training

Boardman Co: Morrow OR

Landholding Agency: Navy

Property Number: 77200210070

Status: Unutilized

Reason: Secured Area

Bldg. 31

Naval Weapons Systems Training

Boardman Co: Morrow OR -

Landholding Agency: Navy

Property Number: 77200210071

Status: Unutilized

Reason: Secured Area

Bldg. 32

Naval Weapons Systems Training

Boardman Co: Morrow OR -

Landholding Agency: Navy

Property Number: 77200210072

Status: Unutilized

Reason: Secured Area

Bldg. 33

Naval Weapons Systems Training

Boardman Co: Morrow OR -

Landholding Agency: Navy

Property Number: 77200210073

Status: Unutilized

Reason: Secured Area

Bldg. 35

Naval Weapons Systems Training

Boardman Co: Morrow OR -

Landholding Agency: Navy

Property Number: 77200210074

Status: Unutilized

Reason: Secured Area

Bldg. 37

Naval Weapons Systems Training

Boardman Co: Morrow OR -

Landholding Agency: Navy

Property Number: 77200210075

Status: Unutilized

Reason: Secured Area

Pennsylvania

Bldg. 619

Naval Surface Warfare Center

Philadelphia Co: PA 19112-

Landholding Agency: Navy

Property Number: 77200320063

Status: Excess

Reason: Within 2000 ft. of flammable or explosive material

Bldg. 106

Naval Support Activity

Mechanicsburg Co: Cumberland PA 17055-0788

Landholding Agency: Navy

Property Number: 77200330013

Status: Excess

Reason: Extensive deterioration

Bldg. 906

Naval Support Activity

Mechanicsburg Co: Cumberland PA 17055-0788

Landholding Agency: Navy

Property Number: 77200330014

Status: Excess

Reason: Extensive deterioration

Bldg. 567

Naval Surface Warfare Center

Philadelphia Co: PA 19112-

Landholding Agency: Navy

Property Number: 77200330060

Status: Excess

Reason: Within 2000 ft. of flammable or explosive material

South Carolina

Bldg. 7

Naval Weapons Station

Goose Creek Co: Berkeley SC 29445-

Landholding Agency: Navy

Property Number: 77200040030

Status: Unutilized

Reason: Secured Area

Bldg. 314

Naval Weapons Station

Goose Creek Co: Berkeley SC 29445-

Landholding Agency: Navy

Property Number: 77200040031

Status: Unutilized

Reason: Secured Area

17 Bldgs.

Naval Weapons Station

Goose Creek Co: Berkeley SC 29445-

Landholding Agency: Navy

Property Number: 77200320017

Status: Unutilized

Reasons: Within 2000 ft. of flammable or explosive material; Secured Area

Tennessee

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number: 4-D-TN-594F

17 Bldgs.

Volunteer Army Ammunition Plant

Acid Production

Chattanooga Co: Hamilton TN 37421-

Landholding Agency: GSA

Property Number: 54199930017

Status: Surplus

Reasons: Within 2000 ft. of flammable or explosive material contamination

GSA Number: 4-D-TN-594F

41 Facilities

Volunteer Army Ammunition Plant

TNT Production

Chattanooga Co: Hamilton TN 37421-

Landholding Agency: GSA

Property Number: 54199930018

Status: Surplus

Reason: contamination

GSA Number: 4-D-TN-594F

5 Facilities

Volunteer Army Ammunition Plant

Waste Water Treatment

Chattanooga Co: Hamilton TN 37421-

Landholding Agency: GSA

Property Number: 54199930019

Status: Surplus

Reason: Extensive deterioration

GSA Number: 4-D-TN-594F

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F

Clinton Property

Stones River National Battlefield

Murfreesboro Co: Rutherford TN 37129-

Landholding Agency: Interior

Property Number: 61200330012

Status: Excess

Reason: Extensive deterioration

Smith Property

Stones River National Battlefield

Murfreesboro Co: Rutherford TN 37129-

Landholding Agency: Interior

Property Number: 61200330013

Status: Excess

Reason: Extensive deterioration

5 Bldgs.

Naval Support Activity 430, 434, 762, 1765, 397

Millington Co: TN 38054-

Landholding Agency: Navy

Property Number: 77200330045

Status: Excess

Reason: Secured Area

Texas

Former Army Aircraft Plant

Industrial Road

Saginaw Co: Tarrant TX 76131-

Landholding Agency: GSA

Property Number: 54200310009

Status: Surplus

Reasons: Within 2000 ft. of flammable or explosive material; Extensive deterioration

GSA Number: 7-D-TX-0879

Border Patrol Station

E. Hwy 83

Rio Grande Co: Starr TX 75247-4607

Landholding Agency: GSA

Property Number: 54200410012

Status: Surplus

Reason: Within 2000 ft. of flammable or explosive material

GSA Number: 7-J-TX-1079

House #1, Tract 105-70

San Antonio Missions

San Antonio Co: Bexar TX 78214-

Landholding Agency: Interior

Property Number: 61200330032

Status: Unutilized

Reason: Extensive deterioration

House #2, Tract 105-70

San Antonio Missions

San Antonio Co: Bexar TX 78214-

Landholding Agency: Interior

Property Number: 61200330033

Status: Unutilized

Reason: Extensive deterioration

House #3, Tract 105-70

San Antonio Missions

San Antonio Co: Bexar TX 78214-

Landholding Agency: Interior

Property Number: 61200330034

Status: Unutilized

Reason: Extensive deterioration

House #4, Tract 105-70

San Antonio Missions

San Antonio Co: Bexar TX 78214-

Landholding Agency: Interior

Property Number: 61200330035

Status: Unutilized

Reason: Extensive deterioration

House #7, Tract 105-70

San Antonio Missions

San Antonio Co: Bexar TX 78214-

Landholding Agency: Interior

Property Number: 61200330036

Status: Unutilized

Reason: Extensive deterioration

Bldg. 113

Naval Air Station

Corpus Christi Co: Nueces TX 78419-

Landholding Agency: Navy

Property Number: 77200310054

Status: Excess

Reason: Within 2000 ft. of flammable or explosive material

Facility 13

Naval Air Station

Corpus Christi Co: Nueces TX 78419-5021

Landholding Agency: Navy

Property Number: 77200320051

Status: Excess

Reason: Extensive deterioration

Facility 94

Naval Air Station

Corpus Christi Co: Nueces TX 78419-5021

Landholding Agency: Navy

Property Number: 77200320052

Status: Excess

Reason: Extensive deterioration

Facility 1777

Naval Air Station

Corpus Christi Co: Nueces TX 78419-5021

Landholding Agency: Navy

Property Number: 77200320053

Status: Excess

Reason: Extensive deterioration

Bldg. 1302

Naval Air Station

Ft. Worth Co: Tarrant TX 76127-6200

Landholding Agency: Navy

Property Number: 77200330046

Status: Unutilized

Reasons: Secured Area; Extensive deterioration

Bldg. 1320

Naval Air Station

Ft. Worth Co: Tarrant TX 76127-6200

Landholding Agency: Navy

Property Number: 77200330047

Status: Unutilized

Reasons: Secured Area; Extensive deterioration

Bldg. 1509

Naval Air Station

Ft. Worth Co: Tarrant TX 76127-

Landholding Agency: Navy

Property Number: 77200330048

Status: Unutilized

Reasons: Secured Area; Extensive deterioration

Virginia

Bldg. 720

Langley Air Force Base

Hampton Co: VA 23665-

Landholding Agency: GSA

Property Number: 54200320008

Status: Excess

Reason: Secured Area

GSA Number: 4-Z-VA-740-A

Church Street Quarters (204)

Colonial National Park

Yorktown Co: York VA 23690-

Landholding Agency: Interior

Property Number: 61200330008

Status: Excess

Reason: Extensive deterioration

Church Street Quarters (205)

Colonial National Park

Yorktown Co: York VA 23690-

Landholding Agency: Interior

Property Number: 61200330009

Status: Excess

Reason: Extensive deterioration

Nelson Property

Colonial National Park

Yorktown Co: York VA 23690-

Landholding Agency: Interior

Property Number: 61200330010

Status: Excess

Reason: Extensive deterioration

Ferris Property

Yorktown Co: VA 23690-

Landholding Agency: Interior

Property Number: 61200330023

Status: Excess

Reason: Extensive deterioration

Bldg. O2

Naval Weapons Station

Yorktown Co: York VA 23691-

Landholding Agency: Navy

Property Number: 77199810073

Status: Excess

Reason: Extensive deterioration

Bldg. 449

Norfolk Naval Shipyard

Portsmouth Co: VA 23709-

Landholding Agency: Navy

Property Number: 77199920068

Status: Excess

Reason: Extensive deterioration

Bldg. 450

Norfolk Naval Shipyard

Portsmouth Co: VA 23709-

Landholding Agency: Navy

Property Number: 77199920069

Status: Excess

Reason: Extensive deterioration

Bldg. 451

Norfolk Naval Shipyard

Portsmouth Co: VA 23709-

Landholding Agency: Navy

Property Number: 77199920070

Status: Excess

Reason: Extensive deterioration

Bldg. 453

Norfolk Naval Shipyard

Portsmouth Co: VA 23709-

Landholding Agency: Navy

Property Number: 77199920071

Status: Excess

Reason: Extensive deterioration

Bldg. 454

Norfolk Naval Shipyard

Portsmouth Co: VA 23709-

Landholding Agency: Navy

Property Number: 77199920072

Status: Excess

Reason: Extensive deterioration

Bldg. 708

Norfolk Naval Shipyard

Portsmouth Co: VA 23709-

Landholding Agency: Navy

Property Number: 77199920073

Status: Excess

Reason: Extensive deterioration

Bldg. 709

Norfolk Naval Shipyard

Portsmouth Co: VA 23709-

Landholding Agency: Navy

Property Number: 77199920074

Status: Excess

Reason: Extensive deterioration

Bldg. 710

Norfolk Naval Shipyard

Portsmouth Co: VA 23709-

Landholding Agency: Navy

Property Number: 77199920075

Status: Excess

Reason: Extensive deterioration

Bldg. 711

Norfolk Naval Shipyard

Portsmouth Co: VA 23709-

Landholding Agency: Navy

Property Number: 77199920076

Status: Excess

Reason: Extensive deterioration

Bldg. 712

Norfolk Naval Shipyard

Portsmouth Co: VA 23709-

Landholding Agency: Navy

Property Number: 77199920077

Status: Excess

Reason: Extensive deterioration

Bldg. 713

Norfolk Naval Shipyard

Portsmouth Co: VA 23709-

Landholding Agency: Navy

Property Number: 77199920078

Status: Excess

Reason: Extensive deterioration

Bldg. 714

Norfolk Naval Shipyard

Portsmouth Co: VA 23709-

Landholding Agency: Navy

Property Number: 77199920079

Status: Excess

Reason: Extensive deterioration

Bldg. 715

Norfolk Naval Shipyard

Portsmouth Co: VA 23709-

Landholding Agency: Navy

Property Number: 77199920080

Status: Excess

Reason: Extensive deterioration

Bldg. 716

Norfolk Naval Shipyard

Portsmouth Co: VA 23709-

Landholding Agency: Navy

Property Number: 77199920081

Status: Excess

Reason: Extensive deterioration

Bldg. 717

Norfolk Naval Shipyard

Portsmouth Co: VA 23709-

Landholding Agency: Navy

Property Number: 77199920082

Status: Excess

Reason: Extensive deterioration

Bldg. 718

Norfolk Naval Shipyard

Portsmouth Co: VA 23709-

Landholding Agency: Navy

Property Number: 77199920083

Status: Excess

Reason: Extensive deterioration

Bldg. 1454

Norfolk Naval Shipyard

Portsmouth Co: VA 23709-

Landholding Agency: Navy

Property Number: 77199920084

Status: Excess

Reason: Extensive deterioration

Bldg. 7

Naval Weapons Station

Yorktown Co: VA 23691-

Landholding Agency: Navy

Property Number: 77200020009

Status: Unutilized

Reasons: Within 2000 ft. of flammable or explosive material, Secured Area

Bldg. 12

Naval Weapons Station

Yorktown Co: VA 23691-

Landholding Agency: Navy

Property Number: 77200020010

Status: Unutilized

Reasons: Within 2000 ft. of flammable or explosive material, Secured Area, Extensive deterioration

Bldg. 24

Naval Weapons Station

Yorktown Co: VA 23691-

Landholding Agency: Navy

Property Number: 77200020011

Status: Unutilized

Reasons: Within 2000 ft. of flammable or explosive material, Secured Area

Bldg. 34

Naval Weapons Station

Yorktown Co: VA 23691-

Landholding Agency: Navy

Property Number: 77200020012

Status: Unutilized

Reasons: Within 2000 ft. of flammable or explosive material, Secured Area, Extensive deterioration

Bldg. 103B

Naval Weapons Station

Yorktown Co: VA 23691-

Landholding Agency: Navy

Property Number: 77200120049

Status: Excess

Reasons: Secured Area, Extensive deterioration

Bldg. B402

Naval Surface Warfare Center

Dalgren Co: King George VA 22448-

Landholding Agency: Navy

Property Number: 77200120059

Status: Unutilized

Reason: Extensive deterioration

Bldg. B425

Naval Surface Warfare Center

Dahlgren Co: King George VA 22448-

Landholding Agency: Navy

Property Number: 77200120060

Status: Unutilized

Reason: Extensive deterioration

Bldg. B1379

Naval Surface Warfare Center

Dahlgren Co: King George VA 22448-

Landholding Agency: Navy

Property Number: 77200130066

Status: Unutilized

Reason: Extensive deterioration

Bldg. 51

Naval Weapons Station

Yorktown Co: VA 23691-

Landholding Agency: Navy

Property Number: 77200220054

Status: Excess

Reasons: Within 2000 ft. of flammable or explosive material, Secured Area, Extensive deterioration

Bldg. 79

Naval Weapons Station

Yorktown Co: VA 23691-

Landholding Agency: Navy

Property Number: 77200220055

Status: Excess

Reasons: Within 2000 ft. of flammable or explosive material, Secured Area

Bldg. 89

Naval Weapons Station

Yorktown Co: VA 23691-

Landholding Agency: Navy

Property Number: 77200220056

Status: Excess

Reasons: Within 2000 ft. of flammable or explosive material, Secured Area

5 Bldgs.

Naval Weapons Station #90, 91, 95, 96, 101

Yorktown Co: VA 23691-

Landholding Agency: Navy

Property Number: 77200220057

Status: Excess

Reasons: Within 2000 ft. of flammable or explosive material, Secured Area, Extensive deterioration

Bldg. 119A

Naval Weapons Station

Yorktown Co: VA 23691-

Landholding Agency: Navy

Property Number: 77200220058

Status: Excess

Reasons: Within 2000 ft. of flammable or explosive material, Secured Area

Bldg. 378

Naval Weapons Station

Yorktown Co: VA 23691-

Landholding Agency: Navy

Property Number: 77200220059

Status: Excess

Reasons: Within 2000 ft. of flammable or explosive material, Secured Area

Bldg. 398

Naval Weapons Station

Yorktown Co: VA 23691-

Landholding Agency: Navy

Property Number: 77200220060

Status: Excess

Reasons: Within 2000 ft. of flammable or explosive material, Secured Area, Extensive deterioration

Bldg. 415

Naval Weapons Station

Yorktown Co: VA 23691-

Landholding Agency: Navy

Property Number: 77200220061

Status: Excess

Reasons: Within 2000 ft. of flammable or explosive material, Secured Area, Extensive deterioration

Bldgs. 440, 441

Naval Weapons Station

Yorktown Co: VA 23691-

Landholding Agency: Navy

Property Number: 77200220062

Status: Excess

Reasons: Within 2000 ft. of flammable or explosive material, Secured Area, Extensive deterioration

Bldg. 508

Naval Weapons Station

Yorktown Co: VA 23691-

Landholding Agency: Navy

Property Number: 77200220063

Status: Excess

Reasons: Within 2000 ft. of flammable or explosive material, Secured Area, Extensive deterioration

Bldg. 510

Naval Weapons Station

Yorktown Co: VA 23691-

Landholding Agency: Navy

Property Number: 77200220064

Status: Excess

Reasons: Within 2000 ft. of flammable or explosive material, Secured Area, Extensive deterioration

Bldg. 605

Naval Weapons Station

Yorktown Co: VA 23691-

Landholding Agency: Navy

Property Number: 77200220065

Status: Excess

Reasons: Within 2000 ft. of flammable or explosive material, Secured Area

Bldg. 624

Naval Weapons Station

Yorktown Co: VA 23691-

Landholding Agency: Navy

Property Number: 77200220066

Status: Excess

Reasons: Within 2000 ft. of flammable or explosive material, Secured Area, Extensive deterioration

Bldg. 688

Naval Weapons Station

Yorktown Co: VA 23691-

Landholding Agency: Navy

Property Number: 77200220067

Status: Excess

Reasons: Within 2000 ft. of flammable or explosive material, Secured Area

Bldgs. 1271, 1272, 1273

Naval Weapons Station

Yorktown Co: VA 23691-

Landholding Agency: Navy

Property Number: 77200220068

Status: Excess

Reason: Secured Area

Bldgs. 1465, 1466

Naval Weapons Station

Yorktown Co: VA 23691-

Landholding Agency: Navy

Property Number: 77200220069

Status: Excess

Reasons: Within 2000 ft. of flammable or explosive material, Secured Area

Bldgs. 1467, 1468, 1469

Naval Weapons Station

Yorktown Co: VA 23691-

Landholding Agency: Navy

Property Number: 77200220070

Status: Excess

Reasons: Within 2000 ft. of flammable or explosive material, Secured Area

Bldg. 1799

Naval Weapons Station

Yorktown Co: VA 23691-

Landholding Agency: Navy

Property Number: 77200220071

Status: Excess

Reasons: Within 2000 ft. of flammable or explosive material, Secured Area

Bldg. CAD40

Naval Weapons Station

Yorktown Co: VA 23691-

Landholding Agency: Navy

Property Number: 77200220084

Status: Excess

Reason: Secured Area

Bldg. CAD41

Naval Weapons Station

Yorktown Co: VA 23691-

Landholding Agency: Navy

Property Number: 77200220085

Status: Excess

Reason: Secured Area

Bldg. CAD479

Naval Weapons Station

Yorktown Co: VA 23691-

Landholding Agency: Navy

Property Number: 77200220086

Status: Excess

Reason: Secured Area

Pier R-1

Naval Weapons Station

Yorktown Co: VA 23691-

Landholding Agency: Navy

Property Number: 77200240053

Status: Unutilized

Reasons: Within 2000 ft. of flammable or explosive material, Secured Area

Bldg. 709

Naval Weapons Station

Yorktown Co: VA 23691-

Landholding Agency: Navy

Property Number: 77200240054

Status: Unutilized

Reasons: Within 2000 ft. of flammable or explosive material, Secured Area

Bldg. 1443/adj. bldg.

Norfolk Naval Shipyard

Portsmouth Co: VA 23704-

Landholding Agency: Navy

Property Number: 77200320018

Status: Excess

Reason: Extensive deterioration

Bldg. CG-2 (0S01)

USCG CAMSLANT

Chesapeake Co: VA

Landholding Agency: Coast Guard

Property Number: 88200330003

Status: Unutilized

Reason: Secured Area

Bldg. CG-6 (OS02)

USCG CAMSLANT

Chesapeake Co: VA

Landholding Agency: Coast Guard

Property Number: 88200330004

Status: Unutilized

Reason: Secured Area

Bldg. (0V02)

USCG CAMSLANT

Chesapeake Co: VA

Landholding Agency: Coast Guard

Property Number: 88200330005

Status: Unutilized

Reasons: Secured Area; Extensive deterioration

Bldg. (0V03)

USCG CAMSLANT

Chesapeake Co: VA

Landholding Agency: Coast Guard

Property Number: 88200330006

Status: Unutilized

Reasons: Secured Area; Extensive deterioration

Washington

Barn

Heart K Ranch

Near Thorp Co: Kittitas WA 98946-

Landholding Agency: Interior

Property Number: 61200330014

Status: Unutilized

Reason: Extensive deterioration

Garage/Shop

Heart K Ranch

Near Thorp Co: Kittitas WA 98946-

Landholding Agency: Interior

Property Number: 61200330015

Status: Unutilized

Reason: Extensive deterioration

1-Stall Garage

Heart K Ranch

Near Thorp Co: Kittitas WA 98946-

Landholding Agency: Interior

Property Number: 61200330016

Status: Unutilized

Reason: Extensive deterioration

Residence

Heart K Ranch

Near Thorp Co: Kittitas WA 98946-

Landholding Agency: Interior

Property Number: 61200330017

Status: Unutilized

Reason: Extensive deterioration

Storage

Heart K Ranch

Near Thorp Co: Kittitas WA 98946-

Landholding Agency: Interior

Property Number: 61200330018

Status: Unutilized

Reason: Extensive deterioration

Residence No. 50

1807 Rest Haven Road

Yakima Co: WA 98901-

Landholding Agency: Interior

Property Number: 61200330019

Status: Unutilized

Reason: Extensive deterioration

Cow Barn 1807 Rest Haven Road

Yakima Co: WA 98901-

Landholding Agency: Interior

Property Number: 61200330020

Status: Unutilized

Reason: Extensive deterioration

Chicken Coop 1807 Rest Haven Road

Yakima Co: WA 98901-

Landholding Agency: Interior

Property Number: 61200330021

Status: Unutilized

Reason: Extensive deterioration

Garage/No.804

Columbia Basin

George Co: Grant WA 98848-

Landholding Agency: Interior

Property Number: 61200330024

Status: Unutilized

Reason: Extensive deterioration

Residence No. 804

Columbia Basin

George Co: Grant WA 98848-

Landholding Agency: Interior

Property Number: 61200330025

Status: Unutilized

Reason: Extensive deterioration

Garage/No. 801

Columbia Basin

George Co: Grant WA 98848-

Landholding Agency: Interior

Property Number: 61200330026

Status: Unutilized

Reason: Extensive deterioration

Residence No. 801

Columbia Basin

George Co: Grant WA 98848-

Landholding Agency: Interior

Property Number: 61200330027

Status: Unutilized

Reason: Extensive deterioration

Garage/No. 305

Columbia Basin

Soap Lake Co: Grant WA 98851-

Landholding Agency: Interior

Property Number: 61200330028

Status: Unutilized

Reason: Extensive deterioration

Residence No. 305

Columbia Basin

Soap Lake Co: Grant WA 98851-

Landholding Agency: Interior

Property Number: 61200330029

Status: Unutilized

Reason: Extensive deterioration

Garage/Residence No. 304

Columbia Basin

Soap Lake Co: Grant WA 98851-

Landholding Agency: Interior

Property Number: 61200330030

Status: Unutilized

Reason: Extensive deterioration

Residence No. 304

Columbia Basin

Soap Lake Co: Grant WA 98851-

Landholding Agency: Interior

Property Number: 61200330031

Status: Unutilized

Reason: Extensive deterioration

Bldg. 81

39307 Kelly Road

Benton City Co: Benton WA 99320-

Landholding Agency: Interior

Property Number: 61200340001

Status: Unutilized

Reason: Extensive deterioration

Garage/81

39307 Kelly Road

Benton City Co: Benton WA 99320-

Landholding Agency: Interior

Property Number: 61200340002

Status: Unutilized

Reason: Extensive deterioration

Bldg. 73

1171 Beane Road

Moxee Co: Yakima WA 98936-

Landholding Agency: Interior

Property Number: 61200340003

Status: Unutilized

Reason: Extensive deterioration

Garage/73

1171 Beane Road

Moxee Co: Yakima WA 98936-

Landholding Agency: Interior

Property Number: 61200340004

Status: Unutilized

Reason: Extensive deterioration

Bldg. 129

1917 Marsh Road

Yakima Co: WA 98901-

Landholding Agency: Interior

Property Number: 61200340005

Status: Unutilized

Reason: Extensive deterioration

Bldg. 6661

Naval Submarine Base, Bangor

Silverdale Co: Kitsap WA 98315-6499

Landholding Agency: Navy

Property Number: 77199730039

Status: Unutilized

Reason: Secured Area

Bldg. 604

Manchester Fuel Department

Port Orchard WA 98366-

Landholding Agency: Navy

Property Number: 77199810170

Status: Excess

Reasons: Within 2000 ft. of flammable or explosive material; Secured Area

Bldg. 288

Fleet Industrial Supply Center

Bremerton WA 98314-5100

Landholding Agency: Navy

Property Number: 77199810171

Status: Excess

Reasons: Within 2000 ft. of flammable or explosive material; Secured Area

Bldg. 47

Naval Radio Station T Jim Creek

Arlington Co: Snohomish WA 98223-

Landholding Agency: Navy

Property Number: 77199820056

Status: Unutilized

Reasons: Secured Area

Extensive deterioration

Bldg. 48

Naval Radio Station T Jim Creek

Arlington Co: Snohomish WA 98223-

Landholding Agency: Navy

Property Number: 77199820057

Status: Unutilized

Reasons: Secured Area

Extensive deterioration

Coal Handling Facilities

Puget Sound Naval Shipyard

#908, 919, 926-929

Bremerton WA 98314-5000

Landholding Agency: Navy

Property Number: 77199820142

Status: Excess

Reason: Within 2000 ft. of flammable or explosive material

Bldg. 193

Puget Sound Naval Shipyard

Bremerton WA 98310-

Landholding Agency: Navy

Property Number: 77199820143

Status: Unutilized

Reason: contamination

Bldg. 202

Naval Air Station Whidbey Island

Oak Harbor WA 98278-

Landholding Agency: Navy

Property Number: 77199830019

Status: Excess

Reason: Within 2000 ft. of flammable or explosive material

Bldg. 2649

Naval Air Station Whidbey Island

Oak Harbor WA 98278-

Landholding Agency: Navy

Property Number: 77199830020

Status: Excess

Reasons: Within 2000 ft. of flammable or explosive material; Extensive deterioration

Bldgs. 35, 36

Naval Radio Station T Jim Creek

Arlington Co: Snohomish WA 98223-

Landholding Agency: Navy

Property Number: 77199830076

Status: Unutilized

Reason: Extensive deterioration

Bldg. 918

Puget Sound Naval Shipyard

Bremerton WA 98314-5000

Landholding Agency: Navy

Property Number: 77199840020

Status: Unutilized

Reasons: Within 2000 ft. of flammable or explosive material; Secured Area

Bldg. 894

Naval Undersea Warfare Center

Keyport Co: Kitsap WA 98345-7610

Landholding Agency: Navy

Property Number: 77199920085

Status: Underutilized

Reasons: Within 2000 ft. of flammable or explosive material; Secured Area

Bldg. 73

Naval Undersea Warfare Center

Keyport Co: Kitsap WA 98345-

Landholding Agency: Navy

Property Number: 77199920152

Status: Underutilized

Reasons: Within 2000 ft. of flammable or explosive material; Secured Area

Bldg. 210A

Naval Station Bremerton

Bremerton Co: WA 98314-

Landholding Agency: Navy

Property Number: 77199930021

Status: Excess

Reasons: Within 2000 ft. of flammable or explosive material, Secured Area

Bldg. 511

Naval Station Bremerton

Bremerton Co: WA 98314-

Landholding Agency: Navy

Property Number: 77199930022

Status: Excess

Reasons: Within 2000 ft. of flammable or explosive material, Secured Area, Extensive deterioration

Bldg. 527

Naval Station Bremerton

Bremerton Co: WA 98314-

Landholding Agency: Navy

Property Number: 77199930023

Status: Excess

Reasons: Within 2000 ft. of flammable or explosive material, Secured Area

Bldg. 97

Naval Air Station

Whidbey Island

Oak Harbor Co: WA 98278-

Landholding Agency: Navy

Property Number: 77199930040

Status: Unutilized

Reason: Extensive deterioration

Bldg. 331

Naval Undersea Warfare Center

Keyport Co: Kitsap WA 98345-

Landholding Agency: Navy

Property Number: 77199930041

Status: Unutilized

Reasons: Secured Area, Extensive deterioration

Bldg. 786

Naval Undersea Warfare Center

Keyport Co: Kitsap WA 98345-

Landholding Agency: Navy

Property Number: 77199930042

Status: Unutilized

Reasons: Secured Area, Extensive deterioration

Bldg. 15

Naval Air Station, Whidbey Island

Oak Harbor Co: WA 98278-3500

Landholding Agency: Navy

Property Number: 77199930071

Status: Unutilized

Reason: Extensive deterioration

Bldg. 119

Naval Air Station, Whidbey Island

Oak Harbor Co: WA 98278-3500

Landholding Agency: Navy

Property Number: 77199930072

Status: Unutilized

Reason: Extensive deterioration

Bldg. 853

Naval Air Station, Whidbey Island

Oak Harbor Co: WA 98278-3500

Landholding Agency: Navy

Property Number: 77199930073

Status: Unutilized

Reason: Extensive deterioration

Bldg. 854

Naval Air Station, Whidbey Island

Oak Harbor Co: WA 98278-3500

Landholding Agency: Navy

Property Number: 77199930074

Status: Unutilized

Reason: Extensive deterioration

Bldg. 166

Puget Sound Naval Shipyard

Bremerton Co: WA 98314-5000

Landholding Agency: Navy

Property Number: 77199930101

Status: Excess

Reason: Secured Area

Bldg. 287

Puget Sound Naval Shipyard

Bremerton Co: WA 98314-5000

Landholding Agency: Navy

Property Number: 77199930102

Status: Excess

Reason: Secured Area

Bldg. 418

Puget Sound Naval Shipyard

Bremerton Co: WA 98314-5000

Landholding Agency: Navy

Property Number: 77199930103

Status: Excess

Reason: Secured Area

Bldg. 858

Puget Sound Naval Shipyard

Bremerton Co: WA 98314-5000

Landholding Agency: Navy

Property Number: 77199930104

Status: Excess

Reason: Secured Area

Bldg. 17

Naval Radio Station

Jim Creek

Arlington Co: WA 98223-8599

Landholding Agency: Navy

Property Number: 77200010073

Status: Excess

Reasons: Secured Area, Extensive deterioration

Bldg. 47

Naval Undersea Warfare

Keyport Co: Kitsap WA 98345-7610

Landholding Agency: Navy

Property Number: 77200010074

Status: Unutilized

Reasons: Within 2000 ft. of flammable or explosive material, Secured Area

Whitney Point Complex

Brinnon Co: Jefferson WA 98320-9899

Landholding Agency: Navy

Property Number: 77200010102

Status: Excess

Reason: Extensive deterioration

Bldg. 398

Naval Station

Bremerton Co: WA 98314-5000

Landholding Agency: Navy

Property Number: 77200020038

Status: Unutilized

Reasons: Within 2000 ft. of flammable or explosive material, Secured Area

Bldg. 976

Naval Station

Bremerton Co: WA 98314-5020

Landholding Agency: Navy

Property Number: 77200020039

Status: Unutilized

Reasons: Within 2000 ft. of flammable or explosive material, Secured Area, Extensive deterioration

8 Bldgs.

Naval Station 902, 903, 905, 907, 909-911, 915

Bremerton Co: WA 98314-5020

Landholding Agency: Navy

Property Number: 77200020040

Status: Unutilized

Reasons: Within 2000 ft. of flammable or explosive material, Secured Area

Bldg. 109

Naval Weapons Station

Port Hadlock Co: Jefferson WA 98339-9723

Landholding Agency: Navy

Property Number: 77200030020

Status: Unutilized

Reasons: Within 2000 ft. of flammable or explosive material, Secured Area, Extensive deterioration

Bldg. 157

Naval Weapons Station

Port Hadlock Co: Jefferson WA 98339-9723

Landholding Agency: Navy

Property Number: 77200030021

Status: Unutilized

Reasons: Within 2000 ft. of flammable or explosive material, Secured Area, Extensive deterioration

Bldg. 161

Naval Weapons Station

Port Hadlock Co: Jefferson WA 98339-9723

Landholding Agency: Navy

Property Number: 77200030022

Status: Unutilized

Reasons: Within 2000 ft. of flammable or explosive material, Secured Area, Extensive deterioration

Bldg. 170

Naval Weapons Station

Port Hadlock Co: Jefferson WA 98339-9723

Landholding Agency: Navy

Property Number: 77200030023

Status: Unutilized

Reasons: Within 2000 ft. of flammable or explosive material, Secured Area, Extensive deterioration

Bldg. 262

Naval Weapons Station

Port Hadlock Co: Jefferson WA 98339-9723

Landholding Agency: Navy

Property Number: 77200030024

Status: Unutilized

Reasons: Within 2000 ft. of flammable or explosive material, Secured Area, Extensive deterioration

Bldg. 482

Puget Sound Naval Shipyard

Bremerton Co: WA 98314-5000

Landholding Agency: Navy

Property Number: 77200040019

Status: Excess

Reason: Secured Area

Bldg. 529

Puget Sound Naval Shipyard

Bremerton Co: WA 98314-5000

Landholding Agency: Navy

Property Number: 77200040020

Status: Excess

Reason: Secured Area

Bldg. 133

Naval Undersea Warfare Station

Keyport Co: Kitsap WA 98345-7610

Landholding Agency: Navy

Property Number: 77200120133

Status: Unutilized

Reasons: Within 2000 ft. of flammable or explosive material, Secured Area, Extensive deterioration

Bldg. 2511

NAS Whidbey Island

Oak Harbor Co: Island WA 98278-3500

Landholding Agency: Navy

Property Number: 77200120157

Status: Excess

Reason: Secured Area

Bldg. 98

Naval Air Station

Oak Harbor Co: Whidbey Island WA 98278-

Landholding Agency: Navy

Property Number: 77200220022

Status: Unutilized

Reasons: Within 2000 ft. of flammable or explosive material, Floodway, Extensive deterioration

Bldg. 2667

Naval Air Station

Oak Harbor Co: Whidbey Island WA 98278-

Landholding Agency: Navy

Property Number: 77200220023

Status: Unutilized

Reasons: Within 2000 ft. of flammable or explosive material, Floodway, Extensive deterioration

Bldg. 899

Puget Sound Naval Shipyard

Bremerton Co: WA 98314-5000

Landholding Agency: Navy

Property Number: 77200230032

Status: Unutilized

Reasons: Within 2000 ft. of flammable or explosive material, Secured Area

Bldgs. 935, 936, 956, 957

Naval Station

Bremerton Co: WA 98314-5020

Landholding Agency: Navy

Property Number: 77200230041

Status: Excess

Reasons: Within 2000 ft. of flammable or explosive material, Secured Area

Bldg. 1990

Naval Station

Everett Co: Snohomish WA 98207-5001

Landholding Agency: Navy

Property Number: 77200230044

Status: Excess

Reasons: Secured Area, Extensive deterioration

Bldg. 530

Naval Station

Bremerton Co: WA 98314-5020

Landholding Agency: Navy

Property Number: 77200230058

Status: Excess

Reasons: Within 2000 ft. of flammable or explosive material, Secured Area

Bldg. 878

Naval Station

Bremerton Co: WA 98314-5020

Landholding Agency: Navy

Property Number: 77200230059

Status: Excess

Reasons: Within 2000 ft. of flammable or explosive material, Secured Area

Bldg. 904

Naval Station

Fort Lawton

Everett Co: Snohomish WA 98207-5001

Landholding Agency: Navy

Property Number: 77200230060

Status: Excess

Reason: Extensive deterioration

Bldg. 66

Naval Magazine

Indian Island

Port Hadlock Co: Jefferson WA 98339-9723

Landholding Agency: Navy

Property Number: 77200240032

Status: Unutilized

Reasons: Within 2000 ft. of flammable or explosive material, Secured Area, Extensive deterioration

Bldg. 67

Naval Magazine

Indian Island

Port Hadlock Co: Jefferson WA 98339-9723

Landholding Agency: Navy

Property Number: 77200240033

Status: Unutilized

Reasons: Within 2000 ft. of flammable or explosive material, Secured Area, Extensive deterioration

Bldg. 180

Naval Magazine

Indian Island

Port Hadlock Co: Jefferson WA 98339-9723

Landholding Agency: Navy

Property Number: 77200240034

Status: Unutilized

Reasons: Within 2000 ft. of flammable or explosive material, Secured Area, Extensive deterioration

Bldg. 182

Naval Magazine

Indian Island

Port Hadlock Co: Jefferson WA 98339-9723

Landholding Agency: Navy

Property Number: 77200240035

Status: Unutilized

Reasons: Within 2000 ft. of flammable or explosive material, Secured Area, Extensive deterioration

Bldg. 214

Naval Magazine Indian Island

Port Hadlock Co: Jefferson WA 98339-9723

Landholding Agency: Navy

Property Number: 77200240036

Status: Unutilized

Reasons: Within 2000 ft. of flammable or explosive material, Secured Area, Extensive deterioration

Bldg. 273

Naval Magazine

Indian Island

Port Hadlock Co: Jefferson WA 98339-9723

Landholding Agency: Navy

Property Number: 77200240037

Status: Unutilized

Reasons: Within 2000 ft. of flammable or explosive material, Secured Area, Extensive deterioration

Bldg. 937

Naval Undersea Warfare

Keyport Co: Kitsap WA 98345-7610

Landholding Agency: Navy

Property Number: 77200240038

Status: Unutilized

Reasons: Within 2000 ft. of flammable or explosive material, Secured Area

Bldg. 2801A

Naval Undersea Warfare

Keyport Co: Kitsap WA 98345-7610

Landholding Agency: Navy

Property Number: 77200240039

Status: Unutilized

Reasons: Within 2000 ft. of flammable or explosive material, Secured Area

Bldg. 7634

Naval Undersea Warfare

Keyport Co: Kitsap WA 98345-7610

Landholding Agency: Navy

Property Number: 77200240040

Status: Unutilized

Reasons: Within 2000 ft. of flammable or explosive material, Secured Area

Bldg. 2633

Naval Air Station

Oak Harbor Co: Island WA 98278-

Landholding Agency: Navy

Property Number: 77200340052

Status: Excess

Reason: Extensive deterioration

West Virginia

Radio Transmitter Rcv Site

Greenbrier Street

Charleston Co: WV 25311-

Landholding Agency: GSA

Property Number: 54200340011

Status: Excess

Reason: Within 2000 ft. of flammable or explosive material

GSA Number : 4-U-WV-0547

Land (by State)

California

Space Surv. Field Station

Portion/Off Heritage Road

San Diego CA 90012-1408

Landholding Agency: Navy

Property Number: 77199820049

Status: Excess

Reason: Within 2000 ft. of flammable or explosive material

Colorado

Landfill

48th & Holly Streets

Commerce Co: Adams CO 80022-

Landholding Agency: GSA

Property Number: 54200220006

Status: Surplus

Reasons: Within 2000 ft. of flammable or explosive material contamination

GSA Number: 7-Z-CO-0647

Florida

3 parcels

U.S. Customs Svc Natl Law

Enforcement Comm Ctr

Orlando Co: Orange FL 32803-

Landholding Agency: GSA

Property Number: 54200310015

Status: Excess

Reason: landlocked

GSA Number: 4-T-FL-1209-1A

Navy Site Alpha

Homestead Co: Miami/Dade FL

Landholding Agency: GSA

Property Number: 54200330009

Status: Surplus

Reason: flooding

GSA Number: 4-N-FL-1079

Kentucky

Ferry Access Site

Route 130

Uniontown Co: KY 42461-

Landholding Agency: GSA

Property Number: 54200340007

Status: Excess

Reason: Floodway

GSA Number: 4-D-KY-0612

Maryland

Land/10,000 sq. ft.

Indian Head Division

Indian Head Co: Charles MD 20646-

Landholding Agency: Navy

Property Number: 77200330044

Status: Underutilized

Reason: Secured Area

Michigan

Port/EPA Large Lakes Rsch Lab

Grosse Ile Twp Co: Wayne MI

Landholding Agency: GSA

Property Number: 54199720022

Status: Excess

Reason: Within airport runway clear zone

GSA Number: 1-Z-MI-554-A

Land/USCG 1380 Beach Street

Muskegon Co: MI 49441-

Landholding Agency: GSA

Property Number: 54200320014

Status: Excess

Reason: Within 2000 ft. of flammable or explosive material

GSA Number: 1-U-MI-0610

Minnesota

Parcel A

Twin Cities Army Ammunition Plant

Arden Hills Co: MN 55112-3938

Landholding Agency: GSA

Property Number: 54200240014

Status: Excess

Reason: Within 2000 ft. of flammable or explosive material

GSA Number: 1-D-MN-0578A

Missouri

Tracts 100-102

Pattonsburg Lake Project

Daviess Co: MO

Landholding AGENCY: GSA

Property Number: 54200410009

Status: Surplus

Reason: Inaccessible/flooding

GSA Number: 7-D-MO-0608A

Montana

Silo's Airstrip

Townsend Co: Broadwater MT 59644-

Landholding Agency: GSA

Property Number: 54200410010

Status: Surplus

Reason: Public airport

GSA Number: 7-I-MO-04091B

New Jersey

2.1 acres

Naval Weapons Station

Earle Co: NJ

Landholding Agency: Navy

Property Number: 77200320016

Status: Excess

Reason: Secured Area

North Carolina

0.85 parcel of land

Marine Corps Air Station, Cherry Point

Havelock Co: Craven NC 28533-

Landholding Agency: Navy

Property Number: 77199740074

Status: Unutilized

Reason: Secured Area

5 (0.91) Parcels

Marine Corps Base

Camp Lejeune Co: NC

Landholding Agency: Navy

Property Number: 77200210080

Status: Underutilized

Reason: Secured Area

3 (0.91) Parcels

Marine Corps Base

Greater Sandy Run

Camp Lejeune Co: NC-

Landholding Agency: Navy

Property Number: 77200210081

Status: Underutilized

Reasons: Within airport runway clear zone, Secured Area

Ohio

Lewis Research Center

Cedar Point Road

Cleveland Co: Cuyahoga OH 44135-

Landholding Agency: GSA

Property Number: 54199610007

Status: Excess

Reasons: Within 2000 ft. of flammable or explosive material, Within airport runway clear zone

GSA Number: 2-Z-OH-598-I

Puerto Rico

Parcel 2E

Naval Security Group

Sabana Seca Co: Toa Baja PR

Landholding Agency: GSA

Property Number: 54200210024

Status: Excess

Reason: Within 2000 ft. of flammable or explosive material

GSA Number: 1-N-PR-496

Parcel 2R

Naval Security Group

Sabana Seca Co: Toa Baja PR

Landholding Agency: GSA

Property Number: 54200210025

Status: Excess

Reason: Within 2000 ft. of flammable or explosive material

GSA Number: 1-N-PR-494

Parcel 2W

Naval Security Group

Sabana Seca Co: Toa Baja PR

Landholding Agency: GSA

Property Number: 54200210026

Status: Excess

Reason: Within 2000 ft. of flammable or explosive material

GSA Number: 1-N-PR-495

Site 1

Naval Station Roosevelt Roads

Ceiba Co: PR 00735-

Landholding Agency: Navy

Property Number: 77200320029

Status: Unutilized

Reason: Secured Area

Site 2

Naval Station Roosevelt Roads

Ceiba Co: PR 00735-

Landholding Agency: Navy

Property Number: 77200320030

Status: Unutilized

Reason: Secured Area

Site 3

Naval Station Roosevelt Roads

Ceiba Co: PR 00735-

Landholding Agency: Navy

Property Number: 77200320031

Status: Unutilized

Reason: Secured Area

Site 4

Naval Station Roosevelt Roads

Ceiba Co: PR 00735-

Landholding Agency: Navy

Property Number: 77200320032

Status: Unutilized

Reason: Secured Area

South Dakota

5 Former Launch Facilities

Ellsworth AFB

Meade Co: Butte SD

Landholding Agency: GSA

Property Number: 54200410011

Status: Surplus

Reason: launch facilities

GSA Number: 7-D-SD-521

Washington

Land-Port Hadlock Detachment

Naval Ordnance Center Pacific Division

Port Hadlock Co: Jefferson WA 98339-

Landholding Agency: Navy

Property Number: 77199640019

Status: Underutilized

Reasons: Within 2000 ft. of flammable or explosive material, Secured Area

[FR Doc. 04-4650 Filed 3-4-04; 8:45 am]

BILLING CODE 4210-29-P